DEPARTMENT OF ENERGY

Federal Energy Regulatory Commission

Combined Notice of Filings

Take notice that the Commission has received the following Natural Gas Pipeline Rate and Refund Report filings:

Filings Instituting Proceedings

Docket Numbers: RP19-1157-000.

Applicants: NEXUS Gas Transmission, LLC.

Description: § 4(d) Rate Filing: Negotiated Rates—Columbia Gas 860005 May 1 Releases to be effective 5/1/2019.

Filed Date: 4/29/19.

Accession Number: 20190429-5027.

Comments Due: 5 p.m. ET 5/13/19.

Docket Numbers: RP19-1158-000.

Applicants: Maritimes & Northeast Pipeline, L.L.C.

Description: § 4(d) Rate Filing: MNUS GT&C Section 20 Cleanup Filing to be effective 5/29/2019.

Filed Date: 4/29/19.

Accession Number: 20190429-5147.

Comments Due: 5 p.m. ET 5/13/19.

Docket Numbers: RP19-1159-000.

Applicants: Texas Eastern Transmission, LP.

Description: § 4(d) Rate Filing: Negotiated rate—Amended Spotlight 911548 to be effective 5/1/2019.

Filed Date: 4/29/19.

Accession Number: 20190429-5185.

Comments Due: 5 p.m. ET 5/13/19.

Docket Numbers: RP19-1160-000.

Applicants: CNE Gas Supply, LLC, et al.

Description: Joint Petition for Temporary Waivers of Capacity Release Policies, et al. of CNE Gas Supply, LLC, et al. under RP19-1160.

Filed Date: 4/29/19.

Accession Number: 20190429-5209.

Comments Due: 5 p.m. ET 5/13/19.

Docket Numbers: RP19-1161-000.

Applicants: Natural Gas Pipeline Company of America.

Description: § 4(d) Rate Filing: Negotiated Rate Agreements—CenterPoint Energy Resources Corp. to be effective 5/1/2019.

Filed Date: 4/29/19.

Accession Number: 20190429-5216.

Comments Due: 5 p.m. ET 5/13/19.

Docket Numbers: RP19-1162-000.

Applicants: Natural Gas Pipeline Company of America.

Description: § 4(d) Rate Filing: Negotiated Rate Agreement—WSGP Gas Producing to be effective 5/1/2019.

Filed Date: 4/29/19.

Accession Number: 20190429-5223.

Comments Due: 5 p.m. ET 5/13/19.

Docket Numbers: RP19-1163-000.

Applicants: ANR Pipeline Company.

Description: Compliance filing Operational Purchases & Sales Report 2019.

Filed Date: 4/30/19.

Accession Number: 20190430-5042.

Comments Due: 5 p.m. ET 5/13/19.

Docket Numbers: RP19-1164-000.

Applicants: ANR Pipeline Company.

Description: § 4(d) Rate Filing: Cashout Surcharge 2019 to be effective 6/1/2019.

Filed Date: 4/30/19.

Accession Number: 20190430-5054.

Comments Due: 5 p.m. ET 5/13/19.

Docket Numbers: RP19-1165-000.

Applicants: Transcontinental Gas Pipe Line Company, LLC.

Description: § 4(d) Rate Filing: Negotiated Rates—Cherokee AGL—Replacement Shippers—May 2019 to be effective 5/1/2019.

Filed Date: 4/30/19.

Accession Number: 20190430-5073.

Comments Due: 5 p.m. ET 5/13/19.

Docket Numbers: RP19-1166-000.

Applicants: Dominion Energy Transmission, Inc.

Description: § 4(d) Rate Filing: DETI—April 30, 2019 Nonconforming Service Agreements to be effective 6/1/2019.

Filed Date: 4/30/19.

Accession Number: 20190430-5076.

Comments Due: 5 p.m. ET 5/13/19.

Docket Numbers: RP19-1167-000.

Applicants: East Tennessee Natural Gas, LLC.

Description: § 4(d) Rate Filing: Negotiated Rate—Wacker Release to Infinite Energy 661914 to be effective 5/1/2019.

Filed Date: 4/30/19.

Accession Number: 20190430-5078.

Comments Due: 5 p.m. ET 5/13/19.

Docket Numbers: RP19-1168-000.

Applicants: Ruby Pipeline, L.L.C.

Description: § 4(d) Rate Filing: Update Filing Quarterly EPC and FLU to be effective 6/1/2019.

Filed Date: 4/30/19.

Accession Number: 20190430-5079.

Comments Due: 5 p.m. ET 5/13/19.

Docket Numbers: RP19-1169-000.

Applicants: Rockies Express Pipeline LLC.

Description: § 4(d) Rate Filing: Neg Rate 2019-04-30 E2W (7) to be effective 5/1/2019.

Filed Date: 4/30/19.

Accession Number: 20190430-5091.

Comments Due: 5 p.m. ET 5/13/19.

Docket Numbers: RP19-1170-000.

Applicants: Cheyenne Plains Gas Pipeline Company, L.L.C.

Description: § 4(d) Rate Filing: EPC and Fuel Update Filing to be effective 6/1/2019.

Filed Date: 4/30/19.

Accession Number: 20190430-5093.

Comments Due: 5 p.m. ET 5/13/19.

Docket Numbers: RP19-1171-000.

Applicants: Gulf South Pipeline Company, LP.

Description: Compliance filing Compliance Tariff Filing to Docket No. CP16-478-000 (Entergy Louisiana 48769) to be effective 6/1/2019.

Filed Date: 4/30/19.

Accession Number: 20190430-5102.

Comments Due: 5 p.m. ET 5/13/19.

Docket Numbers: RP19-1172-000.

Applicants: Gulf South Pipeline Company, LP.

Description: § 4(d) Rate Filing: Cap Rel Neg Rate Agmts (Aethon 37657, 50488 to Scona 51000, 50999, 51001, 51002) to be effective 5/1/2019.

Filed Date: 4/30/19.

Accession Number: 20190430-5108.

Comments Due: 5 p.m. ET 5/13/19.

Docket Numbers: RP19-1173-000.

Applicants: Gulf South Pipeline Company, LP.

Description: § 4(d) Rate Filing: Cap Rel Neg Rate Agmt (Southern 49811 to Emera 51015) to be effective 5/1/2019.

Filed Date: 4/30/19.

Accession Number: 20190430-5115.

Comments Due: 5 p.m. ET 5/13/19.

Docket Numbers: RP19-1174-000.

Applicants: Gulf South Pipeline Company, LP.

Description: § 4(d) Rate Filing: Cap Rel Neg Rate Agmts (Atlanta Gas 8438 to various shippers eff 5-1-2019) to be effective 5/1/2019.

Filed Date: 4/30/19.

Accession Number: 20190430-5120.

Comments Due: 5 p.m. ET 5/13/19.

Docket Numbers: RP19-1175-000.

Applicants: Wyoming Interstate Company, L.L.C.

Description: § 4(d) Rate Filing: Update to Quarterly FLU Percentages to be effective 6/1/2019.

Filed Date: 4/30/19.

Accession Number: 20190430-5126.

Comments Due: 5 p.m. ET 5/13/19.

Docket Numbers: RP19-1176-000.

Applicants: Northern Natural Gas Company.

Description: § 4(d) Rate Filing: 20190430 Imbalance Trade Tariff to be effective 6/1/2019.

Filed Date: 4/30/19.

Accession Number: 20190430-5194.

Comments Due: 5 p.m. ET 5/13/19.

Docket Numbers: RP19-1177-000.

Applicants: Kern River Gas Transmission Company.

Description: § 4(d) Rate Filing: 2019 May Negotiated Rates to be effective 5/1/2019.

Filed Date: 4/30/19.

Accession Number: 20190430-5273.

Comments Due: 5 p.m. ET 5/13/19.

Docket Numbers: RP19-1178-000.

Applicants: Florida Southeast Connection, LLC.

Description: Compliance filing 2019 FSC TUP/SBA Filing-May 1, 2019 to be effective N/A.

Filed Date: 4/30/19.

Accession Number: 20190430-5278.

Comments Due: 5 p.m. ET 5/13/19.

Docket Numbers: RP19-1179-000.

Applicants: Northern Natural Gas Company.

Description: § 4(d) Rate Filing: 20190430 Negotiated Rates to be effective 5/1/2019.

Filed Date: 4/30/19.

Accession Number: 20190430-5323.

Comments Due: 5 p.m. ET 5/13/19.

Docket Numbers: RP19-1180-000.

Applicants: Texas Eastern Transmission, LP.

Description: § 4(d) Rate Filing: Negotiated Rate—Morgan Stanley PAL deal 640039 to be effective 4/30/2019.

Filed Date: 4/30/19.

Accession Number: 20190430-5334.

Comments Due: 5 p.m. ET 5/13/19.

Docket Numbers: RP19-1181-000.

Applicants: Rockies Express Pipeline LLC.

Description: § 4(d) Rate Filing: Neg Rate 2019-04-30 Encana and ConocoPhillips to be effective 5/1/2019.

Filed Date: 4/30/19.

Accession Number: 20190430-5407.

Comments Due: 5 p.m. ET 5/13/19.

Docket Numbers: RP19-1182-000.

Applicants: Tallgrass Interstate Gas Transmission, LLC.

Description: § 4(d) Rate Filing: Neg Rate 2019-04-30 Cima Energy to be effective 5/1/2019.

Filed Date: 4/30/19.

Accession Number: 20190430-5415.

Comments Due: 5 p.m. ET 5/13/19.

Docket Numbers: RP19-1183-000.

Applicants: El Paso Natural Gas Company, L.L.C.

Description: § 4(d) Rate Filing: Negotiated Rate Agreement Update (Conoco Resdes May 19) to be effective 5/1/2019.

Filed Date: 4/30/19.

Accession Number: 20190430-5445.

Comments Due: 5 p.m. ET 5/13/19.

Docket Numbers: RP19-206-004.

Applicants: Mississippi Canyon Gas Pipeline, L.L.C.

Description: Compliance filing MCGP Stipulation and Agreement to be effective 12/31/9998.

Filed Date: 4/30/19.

Accession Number: 20190430-5083.

Comments Due: 5 p.m. ET 5/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2019.
Kimberly D. Bose,
Secretary.

[FR Doc. 2019-09281 Filed 5-6-19; 8:45 am]

BILLING CODE 6717-01-P